GENERAL SERVICES ADMINISTRATION

[FMR Bulletin 2003-B3]

Federal Management Regulation; GSA Personal Property Sales Services and Rates

AGENCY: Federal Supply Service, GSA.

ACTION: Notice of a bulletin.

SUMMARY: The attached bulletin provides the services and rates for the sale of surplus and exchange/sale personal property. The basic services that GSA offers and the rates for those services are shown in Attachment A to the bulletin.

EFFECTIVE DATE: This bulletin is effective June 1, 2003.

FOR FURTHER INFORMATION CONTACT: Lynne Price, General Services Administration, Federal Supply Service (FSS), Washington, DC 20405; e-mail, lynne.price@gsa.gov, telephone (703) 308-0643.

Dated: June 16, 2003.
Jon A. Jordan,
Controller, Federal Supply Service.

GSA Personal Property Sales Services and Rates

To: Heads of Federal Agencies

Subject: GSA Personal Property Sales Services and Rates

1. Purpose. This bulletin provides the services and rates for the sale of surplus and exchange/sale personal property. The basic services that GSA offers and the rates for those services are shown in Attachment A.

2. Applicability. This bulletin applies to sales of surplus and exchange/sale personal property in the United States for executive agencies.

3. Effective date. This bulletin is effective June 1, 2003.

4. Expiration date. This bulletin is effective until canceled or revised.

5. Cancellation. GSA Bulletin FPMR H-77 is cancelled.

6. Background. Section 573 of title 40 of the United States Code states that the Administrator of General Services may retain from the proceeds of sales of personal property conducted by the General Services Administration (GSA) amounts necessary to recover, to the extent practicable, costs incurred by GSA (or its agent) in conducting such sales.

7. Charges.

a. GSA establishes rates for the services it provides in personal property sales. GSA does not bill its customers for these services. Instead, GSA deducts its service charges from the proceeds of the sale. This method frees customers from establishing separate systems for certification and payment of bills and does not affect agency operating budgets.

b. If sales proceeds are reimbursable to the holding agency under Title 40 or under separate statutory authority, net proceeds (sales proceeds less GSA's basic service rates and supplemental charges) will be distributed to the agency via the on-line payment and accounting contract (IPAC) system.

c. If sales proceeds are nonreimbursable, GSA will retain the expenses of sale. Except as otherwise authorized by law, the net proceeds will be deposited to miscellaneous receipts of the Treasury.

8. Supplemental services and rates. GSA may charge for supplemental services and these charges will be deducted from the sales proceeds. (Some examples include: Transportation, storage, maintenance, vehicle preparation, security services, travel expenses, portable restroom facilities, and special media advertising.) Rates for supplemental services will vary according to local market conditions. GSA publishes these rates in GSA regional bulletins available from the servicing regional GSA sales office.

9. Consultation. GSA will consult with customers to determine the best method of sale and their requirements for supplemental services.

10. Property resale. Property for which the sale contract is terminated for default will be resold at no cost to the holding agency. Property for which the sale contract is terminated for cause, for example, misdescription of the property, will be resold at the holding agency's cost if the cause is attributable to the holding agency.

By delegation of the Commissioner,

Federal Supply Service.

Jon A. Jordan,

Controller.

Personal Property Sales Services and Rates

1. Basic Services

a. Auction Sales. The following services are covered under the basic rate:

(1) Property cataloging.

(2) Maintenance of mailing list.

(3) Printing and distribution of announcement to bidders on mailing list.

(4) Normal media advertising (one newspaper or equivalent).

(5) Registration of bidders.

(6) Auctioneer.

(7) On-site Contracting Officer.

(8) Award document preparation.

(9) On-site collection of late payments.

(10) Follow-on collection of payments.

(11) Deposit of proceeds.

(12) Distribution of proceeds.

(13) Financial and property line item accountability.

(14) Contract administration.

b. Sealed Bid Sales. The following services are covered under the basic rate:

(1) Property cataloging.

(2) Maintenance of mailing list.

(3) Printing and distribution of invitation for bids to bidders on mailing list.

(4) Bid opening.

(5) Contract awards.

(6) Preparation of award documents.

(7) Financial and property line item accountability.

(8) Contract administration.

(9) Collection and deposit of proceeds.

(10) Distribution of proceeds.

c. Internet Sales. The following services are covered under the basic rate:

(1) Providing secure Internet site.

(2) Posting of items.

(3) Posting of photos.

(4) Featured items.

(5) Maintenance of registered bidders.

(6) Bid opening.

(7) Contract awards.

(8) Preparation of award documents.

(9) Financial and property line item accountability.

(10) Contract administration.

(11) Automatic payment.

(12) Collection and deposit of proceeds.

(13) Distribution of proceeds.

Note: Supplemental charges may be incurred for services required which are not listed in the basic services. (Some examples include: transportation, storage, maintenance, vehicle preparation, security services, travel expenses, portable restroom facilities, and special media advertising.) GSA deducts these charges from the sales proceeds.

2. Basic Service Rates

a. Commodities other than vehicles exchange/sale and other reimbursable sales. Below is GSA's basic rate structure. If your agency has special programs or circumstances that may warrant modifications, please contact your servicing regional GSA sales office.

Asset Sales Price:

Low range | High range | Rate per item
$0.01 | $1,000.00 | $250 or award amount if less than $250.
$1,000.01 | 5,000.00 | 25 percent of Proceeds.
$5,000.01 | 25,000.00 | 20 percent of Proceeds.
$25,000.01 | 50,000.00 | 17 percent of Proceeds.
$50,000.01 | 100,000.00 | 14 percent of Proceeds.
$100,000.01 | 150,000.00 | 11 percent of Proceeds.
$150,000.01 | 250,000.00 | 8 percent of Proceeds.
$250,000.01 | (¹) | 6 percent of Proceeds.
¹ And higher.

b. Vehicles sold resulting from seized and forfeited laws. Rates negotiated.

c. GSA Vehicle sales—exchange/sale and other reimbursable sales (FSC's 2310 and 2320 only).

GSA Conducted Sales—$275 per vehicle

Commercial Contract—$200 per vehicle plus cost of contract

[FR Doc. 03-15583 Filed 6-19-03; 8:45 am]

BILLING CODE 6820-89-P